DEPARTMENT OF HEALTH AND HUMAN SERVICES

Indian Health Service

[OMB Control Number 0917-0006]

Request for Public Comment: 30-Day Proposed Information Collection: Application for Participation in the IHS Scholarship Program

AGENCY: Indian Health Service, HHS.

ACTION: Notice.

SUMMARY: In compliance with section 3507(a)(1)(D) of the Paperwork Reduction Act of 1995, which requires 30 days for public comment on proposed information collection projects, the Indian Health Service (IHS) is submitting to the Office of Management and Budget (OMB) a request for an extension for this collection, titled, “Application for Participation in the IHS Scholarship Program (OMB Control Number 0917-0006),” with an expiration date of September 30, 2016. This proposed information collection project was previously published in the Federal Register (81 FR 44030) on July 6, 2016, and allowed 60 days for public comment, as required by 3506(c)(2)(A). The IHS received no comments regarding this collection. The purpose of this notice is to allow 30 days for public comment to be submitted directly to OMB.

Proposed Collection: Title: “Application for Participation in the IHS Scholarship Program,” OMB Control No. 0917-0006. Type of Information Collection Request: Extension of the currently approved information collection “Application for Participation in the IHS Scholarship Program,” OMB Control No. 0917-0006. Form Number(s): IHS-856-3, IHS-856-5 through 856-19, IHS-856-21 through 856-24, IHS-817, and IHS-818 are retained for use by the IHS Scholarship Program (IHSSP) as part of this current information collection request. Reporting forms are found on the IHS Web site at www.ihs.gov/scholarship. Need and Use of Information Collection: The IHS Scholarship Branch needs this information for program administration and uses the information to: solicit, process, and award IHS Pre-graduate, Preparatory, and/or Health Professions Scholarship recipients; monitor the academic performance of recipients; and to place recipients at payback sites. The IHSSP application is electronically available on the internet at the IHS Web site at: https://www.ihs.gov/scholarship/applynow/. Affected Public: Individuals, not-for-profit institutions and State, local or Tribal Governments. Type of Respondents: Students pursuing health care professions.

The table below provides: Types of data collection instruments, Estimated number of respondents, Number of responses per respondent, Annual number of responses, Average burden hour per response, and Total annual burden hours.

Data collection instrument(s) | Number of respondents | Responses per respondent | Total annual response | Burden hour per response * | Annual burden hours
Faculty/Employer Evaluation (IHS-856-3) | 1,500 | 2 | 3,000 | 0.42 (25 min) | 1250
Delinquent Federal Debt (IHS-856-5) | 1,500 | 1 | 1,500 | 0.13 (8 min) | 200
Course Curriculum Verification (IHS-856-6) | 1,500 | 1 | 1,500 | 0.70 (42 min) | 1,050
Verification of Acceptance or Decline of Award (IHS-856-7) | 500 | 1 | 500 | 0.13 (8 min) | 67
Recipient's Initial Program Progress Report (IHS-856-8) | 1,200 | 1 | 1,200 | 0.13 (8 min) | 160
Notification of Academic Problem (IHS-856-9) | 50 | 1 | 50 | 0.13 (8 min) | 7
Change of Status (IHS-856-10) | 50 | 1 | 50 | .045 (25 min) | 21
Request for Approval of Deferment (IHS-856-11) | 20 | 1 | 20 | 0.13 (8 min) | 3
Preferred Placement (IHS-856-12) | 150 | 1 | 150 | 0.50 (30 min) | 75
Notice of Impending Graduation (IHS-856-13) | 170 | 1 | 170 | 0.17 (10 min) | 28
Notification of Deferment Program (IHS-856-14) | 20 | 1 | 20 | 0.13 (8 min) | 3
Placement Update (IHS-856-15) | 170 | 1 | 170 | 0.18 (11 min) | 31
Annual Status Report (IHS-856-16) | 200 | 1 | 200 | 0.25 (15 min) | 50
Extern Site Preference Request (IHS-856-17) | 300 | 1 | 300 | 0.13 (8 min) | 40
Request for Extern Travel Reimbursement (IHS-856-18) | 150 | 1 | 150 | 0.10 (6 min) | 15
Lost Stipend Payment (IHS-856-19) | 50 | 1 | 50 | 0.13 (8 min) | 7
Summer School Request (IHS-856-21) | 100 | 1 | 100 | 0.10 (6 min) | 10
Change of Name or Address (IHS-856-22) | 20 | 1 | 20 | 0.13 (8 min) | 3
Request for Credit Validation (IHS-856-23) | 30 | 1 | 30 | 0.10 (6 min) | 3
Faculty/Advisor Evaluation (IHS-856-24) | 1,500 | 2 | 3,000 | 0.42 (25 min) | 1,250
Scholarship Program Agreement (IHS-817) | 175 | 1 | 175 | 0.16 (10 min) | 29
Health Professions Contract (IHS-818) | 225 | 1 | 225 | 0.16 (10 min) | 38
Total |  |  | 12,580 |  | 4,340
* For ease of understanding, burden hours are also provided in actual minutes.

There are no direct costs to respondents other than their time to voluntarily complete the forms and submit them for consideration. The estimated cost in time to respondents, as a group, is $46,386 [4,303 burden hours × $10.78 per hour (2016 GS-3 hourly base pay rate)]. This total dollar amount is based upon the number of burden hours per data collection instrument, rounded to the nearest dollar.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Requests for Further Information: For the proposed collection, or requests to obtain a copy of the data collection instrument(s) and instructions, send to: Robert E. Pittman, BPharm, MPH, Acting Chief, Scholarship Branch Director, Division of Health Professions Support, Indian Health Service, 5600 Fishers Lane, Mail Stop: OHR 11E53A, Rockville, MD 20857. Rockville, MD 20852, Call non-toll free (301) 443-6622, send via facsimile to (301) 443-6622, send via facsimile to (301) 443-6048, or send your email requests, and return address to: Robert.Pittman@ihs.gov.

Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

Comment Due Date: Comments regarding this information collection are best assured of having full effect if received within 30 days of the date of this publication.

Dated: August 24, 2016.
Elizabeth A. Fowler,
Deputy Director for Management Operations, Indian Health Service.

[FR Doc. 2016-21048 Filed 8-31-16; 8:45 am]

BILLING CODE 4165-16-P